DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301)443-7978.

Treatment Improvement Protocol Evaluation: Addiction Technology Transfer Center Study

New—The ATTC Study is a special study under the ongoing TIPs Evaluation Project. Since 1993, SAMHSA's Center for Substance Abuse Treatment (CSAT) has published 36 Treatment Improvement Protocols, or TIPs, which provide consensus-based administrative and clinical practice guidance to the substance abuse treatment field; and 23 Technical Assistance Publications (TAPs), which are publications, manuals, and guides developed by experts with first-hand experience to offer practical responses to emerging issues and concerns in the substance abuse treatment field.

A qualitative study, the ATTC study will elicit data related to assessing both actual use, and usefulness, of TIPs, TAPs and other CSAT products in developing curricula and other knowledge application products for ATTCs. Data will be collected through intensive interviews with both ATTC faculty and curriculum developers at six of the 13 ATTCs. Purposive sampling will be used to identify appropriate participants; ATTC Directors will recommend faculty/curriculum developers for participation. Prior to the interview process, faculty and curriculum developers will be asked to complete a brief questionnaire. Measures will be primarily descriptive and process, for example, whether, and if so, which, TIPs and TAPs have been or are being used in development of ATTC curricula; how and to what extent TIPs and TAPs are used; faculty/trainers' and curriculum developers' perceptions regarding the advantages and disadvantages of using TIPs and TAPs; and their impressions and suggestions concerning the content and format of TIPs and TAPs.

Burden for faculty/trainers and curriculum developers includes participation in a study introduction phone call (15 minutes); written responses to a brief questionnaire, including mailing it back to the contractor (30 minutes); and subsequent participation in an indepth interview (1½ hours). Burden attributed to the ATTC Directors of the six selected ATTCs includes time spent assisting the study team with background information, site visit coordination, and identifying and discussing possible participants for interviews.

| No. of respondents | Responses/ respondent | Hours/ response | Burden hours
Faculty/Curriculum Developers | 90 | 1 | *2.25 | 202.50
ATTC Directors | 6 | 1 | 0.50 | 3.00
Total | 96 |  |  | 205.50
*includes travel time.

Written comments and recommendations concerning the proposed information collection should be sent within 30 days of this notice to: Allison Eydt, Human Resources and Housing Branch, Office of Management and Budget, New Executive Office Building, Room 10235, Washington, DC 20503.

Dated: March 15, 2000.
Richard Kopanda,
Executive Officer, SAMSHA.

[FR Doc. 00-6907 Filed 3-20-00; 8:45 am]

BILLING CODE 4162-20-P